DEPARTMENT OF TRANSPORTATION

Federal Aviation Administration

[Docket No: FAA-2019-0170]

Notice of Opportunity: Criteria and Application Procedures for the Military Airport Program (MAP) for Fiscal Year 2019

AGENCY: Federal Aviation Administration (FAA), U.S. Department of Transportation.

ACTION: Notice.

SUMMARY: The FAA is announcing the criteria, application procedures, and schedule for the Military Airport Program (MAP), to enable the Secretary of Transportation to designate a maximum of 15 joint-use, or former military airports, to participate in the MAP for the purposes of capital development funding assistance.

DATES: Applications must be received on or before May 2, 2019.

ADDRESSES: Airport sponsors must submit applications for the Fiscal Year (FY) 2019 MAP to the appropriate Airports District Office (ADO) or Regional Office (RO) if there is no ADO. Applicants can find the address for their local office on the FAA website.¹

¹ http://www.faa.gov/airports/news_information/contact_info/regional/.

FOR FURTHER INFORMATION CONTACT: For information concerning this notice, contact Terri A.R. Kett, Airport Improvement Program (AIP) Branch; Airports Financial Assistance Division; Office of Airport Planning and Programming. Telephone: 202-267-4374. Email: terri.kett@faa.gov.

SUPPLEMENTARY INFORMATION:

General Description of the Program

49 U.S.C. 47117 designates a 4% set-aside of AIP discretionary funds that the FAA may use toward specific projects at MAP designated airports to successfully transition from military to civilian use. For FY19, approximately $8 million will be available to the MAP program. The MAP is open to civil airport sponsors of joint-use military airfields or former military airports that are included in the FAA's National Plan of Integrated Airport Systems (NPIAS). The FAA administers the AIP, including MAP, in accordance with FAA Order 5100.38D Change 1, Airport Improvement Program Handbook.²

² Available online at: https://www.faa.gov/airporfts/aip/aip_handbook/.

Consideration

Pursuant to 49 U.S.C. 47118(c), the Secretary may consider only current or former military airports for designation if a grant will:

1. Reduce delays at an airport with more than 20,000 hours of annual delays in commercial passenger aircraft takeoffs and landings;

2. Enhance airport and air traffic control system capacity in a metropolitan area or reduce current and projected flight delays; or

3. Preserve or enhance minimum airfield infrastructure facilities at former military airports to support emergency diversionary operations for transoceanic flights in locations—

• within U.S. jurisdiction or control; and

• where there is a demonstrable lack of diversionary airports within the distance or flight-time required by regulations governing transoceanic flights.

Designation Authority

Under 49 U.S.C. 47118, the FAA may designate up to 15 current of former military airports to participate in the MAP in a fiscal year. Three of the 15 airports may be general aviation (GA) airports and the remaining 12 must be commercial service or reliever airports. In FY 2019, there are two GA slots and 10 commercial service/reliever slots available in the program.

Designation Duration

The FAA has the option to designate an airport in the MAP for one to five fiscal years. The FAA will evaluate the conversion needs of the airport, in the sponsor's capital development plan, to determine the appropriate length of designation.

Redesignation

Previously designated airports may apply for redesignation for subsequent terms not to exceed five fiscal years. Airports must still meet MAP eligibility requirements and have remaining MAP eligible projects not previously funded by the FAA. Applications a evaluated in terms of the remaining projects, specifically fundable only under the MAP, because redesignated airports generally have fewer conversion needs than new candidates do. The FAA's goal is to graduate MAP airports to regular AIP participation by successfully converting participating airports to civilian airport operations.

MAP Funding Limitations

The amount of annual funding is limited to the 4% set-aside of AIP discretionary funds. Designated airports may receive up to $7 million per fiscal year for terminal building projects and up to $7 million to preserve or enhance minimum airfield infrastructure or, construct parking lots, fuel farms, utilities, hangars, and air cargo terminals. Hangars and air cargo terminals may not be larger than 50,000 square feet. MAP designated airport projects are not limited to MAP funding; they may also qualify for other AIP funding if all AIP associated project eligibility and justification requirements are met.

Designation Requirements

Current of former military airports are eligible for designation if they meet the following statutory requirements:

1. The airport is a former military installation closed or realigned under—

• 10 U.S.C 2687 as excess property. These are bases announced for closure by the Department of Defense after September 30, 1977;

• Section 201 of the Defense Authorization Amendments and Base Closure and Realignment Act; or

• Section 2905 of the Defense Base Closure and Realignment Act of 1990 (10 U.S.C. 2687, note);

2. The airport is a military installation with both military and civil aircraft operations as a commercial service or reliever airport (also called a joint-use airport); or

3. The airport is a former military installation that, at any time after December 31, 1965, was owned and operated by the Department of Defense and is a nonhub primary airport.

General aviation airports can only qualify under requirement 1 of this section.

Candidate Evaluation Criteria

The airport must meet all of the requirements of 49 U.S.C. 47118 as well as the MAP requirements listed in FAA Order 5100.38D Change 1, Airport Improvement Program (Table 6-14, MAP Requirements).

The FAA will evaluate applications based on (but not limited to) the following criteria:

• The potential of the airport to become a viable civilian airport that will enhance system capacity or reduce delays.

• Compatibility of airport roles and the ability of the airport to provide an adequate airport facility;

• Level of operations at the congested airport and the candidate airport;

• The capability of the airport to serve aircraft that otherwise must use a congested airport;

• Landside surface access;

• Airport operational capability, including peak hour and annual capacities;

• Potential of other metropolitan area airports to relieve the congested airport;

• Ability to satisfy, relieve, or meet air cargo demand within the metropolitan area;

• Forecast aircraft and passenger levels, type of commercial service anticipated, i.e., scheduled or chartered commercial service;

• Type and capacity of aircraft projected to serve the airport ;

• The potential for the airport to be served by aircraft or users, including the airlines serving the congested airport;

• Ability to replace an existing commercial service or reliever airport serving the area; and

Application Procedures and Required Documentation

• Airport sponsors applying for designation, or redesignation, must complete and submit a Standard Form (SF) 424, “Application for Federal Assistance”,³ along with any supporting documentation. A fillable SF 424 form can be downloaded at https://www.faa.gov/airports/resources/forms/?sect=aip,-payments. The SF 424 form must be filled out completely and include the following: Item 1. Type of Submission—Mark as a “Preapplication”;

³ Available online at: https://www.faa.gov/airports/resources/forms/?sect=aip,payments.

• Item 2. Type of Application—Mark as “New”;

• Item 15. Descriptive Title of Applicant's Project—Enter “Designation (or Redesignation) to the Military Airport Program”; and

• Item 18. Estimated Funding—Enter the total amount of MAP funding requests anticipated over the entire term in the application.

Supporting Documentation

1. Identification as a joint-use or former military airport. The application must identify the airport as either a joint-use or former military airport. For former military airports, indicate which designation requirement the airport meets under 49 U.S.C. 47118(a).

2. Qualifications for the MAP. The application must answer the following questions:

a. Does the airport meet the definition of a “public airport” as defined in 49 U.S.C. 47102(21)?

b. Is the airport sponsor an eligible airport “sponsor,” as defined in 49 U.S.C. 47102(26)?

c. Is the required environmental review for civil reuse or joint-use of the military airfield completed?

• The environmental review is necessary to convey the property, enter into a long-term lease, or finalize a joint-use agreement.

• The military department conveying or leasing the property, or entering into a joint-use agreement, has the lead responsibility for this environmental review.

• Environmental reviews for each specific MAP project are separate processes. These environmental reviews must meet the normal AIP requirements and timeframes.

• Does the sponsor have good title? For former military airports, the sponsor must hold or will hold satisfactory title, a long-term lease in furtherance of conveyance of property for airport purposes, or a long-term interim lease more than 20 years or longer.

• Documentation that the Federal government has accepted an application for surplus or BRAC airport property is sufficient to meet this requirement.

d. For current military airports, does the sponsor have an existing joint-use agreement with the military department having jurisdiction over the airport?

• A copy of the existing joint-use agreement must be submitted with the application.

e. Does the sponsor have a five-year capital improvement plan that includes all AIP eligible projects that can be funded with MAP or AIP?

f. Does the airport have an FAA-approved airport layout plan (ALP)?

g. For commercial service airports, does the sponsor have a current business/marketing plan or strategy report?

3. Other Factors. The application should include information on the items below:

a. Identify the existing and potential levels of visual or extra instrument operations and aeronautical activity at the current or former military airport and, if applicable, the congested airport.

b. Explain how the airport contributes to the air traffic system or airport system capacity.

c. Provide the revenue passenger and air cargo levels (if commercial air carriers serve the airport).

d. Describe the airport's projected role and development needs for transitioning from military to civilian use. Explain how development projects would either reduce delays at an airport with more than 20,000 hours of annual delays in commercial passenger aircraft takeoffs and landings; enhance capacity in a metropolitan area, or reduce current and projected flight delays.

e. Describe the existing airspace capacity. Explain how anticipated new operations would affect the surrounding airspace, congestion, and air traffic flow patterns in the metropolitan area in or near the airport.

f. Describe the airport sponsor's 5-year CIP. The CIP must identify the safety, capacity, and conversion related projects, estimated costs, and projected construction schedule.

g. Describe projects that are consistent with the role of the airport and effectively contribute to the joint-use or civil conversion of the airfield. The projects (e.g., safety-related, conversion-related, and/or capacity-related) must be identified and fully explained based on the sponsor's planned airport use. Each project that may be eligible under MAP must be clearly indicated and include the following information:

Airside

• Planned safety modifications including pavement, marking, lighting, drainage, or other structures or features to meet civil standards for approach, departure, and other protected airport surfaces as described in title 14 CFR part 77, or airport design standards set forth in FAA Advisory Circular 150/5300-13A;

• Planned construction of facilities, such as passenger terminal gates, aprons for passenger terminals, taxiways to new terminal facilities, aircraft parking, and cargo facilities to accommodate civil use;

• Planned utility upgrades serving the civilian function and independent operation including: Electrical, mechanical, communications lines, water, gas, sewer, storm drainage;

• Planned acquisition, construction, rehabilitation, or modification of facilities and equipment including: Snow removal equipment, aircraft rescue and fire fighting buildings and equipment, security equipment, lighting vaults, and reconfiguration or relocation of eligible buildings for more efficient civil airport operations;

• Planned modifications of fuel farms to accommodate civil aviation use;

• Planned land acquisition for runway protection zones, other approach protection, or airport development; and

• Planned modifications, which will permit the airfield to accommodate GA users.

Landside

• Planned construction, improvement, or repair of surface parking areas;

• Planned construction, improvement, or repair of access roads;

• Planned construction, improvement, or repair of facilities, such as passenger and/or cargo terminals buildings and hangars.

h. Evaluate the ability of surface transportation facilities (e.g., road, rail, high-speed rail, and/or maritime) to provide intermodal connections.

i. Describe the type and level of aviation (and community) interest in the civil use of the current or former military airport.

j. Provide one copy of the FAA-approved ALP with each application. The ALP must clearly describe capacity and conversion-related projects. Airport sponsors should also include other information, such as project cost(s), schedule, project justification(s), other project related maps and drawings showing the project location(s), and any other supporting documentation that would make the airport sponsor's application easier to understand. Airport sponsors may also include photos that further describe the airport, projects, and otherwise clarify certain aspects of the application. These maps and ALPs should be cross-referenced with the project costs and descriptions noted elsewhere in the application.

Redesignation Applications

Airport sponsors applying for redesignation to the MAP must submit the same information required of new candidates and must answer the following questions:

1. Why is redesignation needed to accomplish the transition from military to civilian use?

2. Why funding of eligible projects under other categories of AIP, or other sources of funding, would not accomplish the development needs of the airport?

This notice is issued pursuant to title 49 U.S.C. 47118. Issued from Washington, DC, on March 13, 2019.
James A. Johnson,
Acting Director, Office of Airport Planning and Programming.

[FR Doc. 2019-05001 Filed 3-15-19; 8:45 am]

BILLING CODE 4910-13-P